DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times:

August 19, 2010, 8:30 a.m. to 5 p.m., EST.

August 20, 2010, 8:30 a.m. to 3 p.m., EST.

Place: Hilton Washington DC/Rockville Hotel & Executive Meeting Ctr, 1750 Rockville Pike, Rockville, Maryland 20852.

Status: The meeting will be open to the public.

Purpose: The Committee members will advance their efforts in the development of the Tenth Annual Report to the Secretary of the Department of Health and Human Services (the Secretary) and the Congress, focusing on the topic, Preparing the Interprofessional Workforce to Manage Health Behaviors. The Committee proposes to review concepts behind the initiation of a new degree program in Health Care Delivery Science established at Dartmouth University as it relates to managing health behaviors and ensuring a workforce that is prepared to address health behaviors in its education and treatment programs and practice. Additional agenda items include a perspective from the Veterans Health Administration and an opportunity to discuss the implications of Healthy People 2020. The meeting will afford Committee members with the opportunity to discuss the current healthcare workforce issues in an effort to formulate recommendations for the Secretary and the Congress.

Agenda: The ACICBL agenda includes an overview of the Committee's general business activities, along with a number of presentations that will include Healthy People 2020, chronic illness management, integrating programs to manage health behaviors, and financing issues. Recommendations will be formulated for inclusion in the Tenth Annual Report of the ACICBL. Agenda items are subject to change as dictated by the priorities of the Committee.

Supplementary Information: Requests to make oral comments or to provide written comments to the ACICBL should be sent to Dr. Joan Weiss, Designated Federal Official at the contact information below. Individuals who plan to attend the meeting and need special assistance should notify Dr. Weiss at least 10 days prior to the meeting, using the address and phone number below. Members of the public will have the opportunity to provide comments at the meeting.

For Further Information Contact: Anyone requesting information regarding the ACICBL should contact Dr. Joan Weiss, Designated Federal Official with the Bureau of Health Professions, Health Resources and Services Administration, Parklawn Building, Room 9-36, 5600 Fishers Lane, Rockville, Maryland 20857, (301) 443-6950 or jweiss@hrsa.gov. In the absence of Dr. Weiss, CAPT Norma J. Hatot, Senior Nurse Consultant, can be contacted via telephone at (301) 443-2681 or e-mail at nhatot@hrsa.gov.

Dated: July 20, 2010.
Sahira Rafiullah,
Director, Division of Policy and Information Coordination.

[FR Doc. 2010-18258 Filed 7-26-10; 8:45 am]

BILLING CODE 4165-15-P